DEPARTMENT OF LABOR

Employment and Training Administration

Agency Information Collection Activities; Comment Request; H-1B Technical Skills Training and Jobs and Innovation Accelerator Challenge Grants

ACTION: Notice.

SUMMARY: The Department of Labor's (DOL's), Employment and Training Administration (ETA) is soliciting comments concerning a proposed extension for the authority to conduct the information collection request (ICR) titled, “H-1B Technical Skills Training and Jobs and Innovation Accelerator Challenge Grants.” This comment request is part of continuing Departmental efforts to reduce paperwork and respondent burden in accordance with the Paperwork Reduction Act of 1995 (PRA).

DATES: Consideration will be given to all written comments received by February 26, 2019.

ADDRESSES: A copy of this ICR with applicable supporting documentation; including a description of the likely respondents, proposed frequency of response, and estimated total burden may be obtained free by contacting Evan Burke by telephone at 202-693-2963, TTY 1-877- 889-5627, (these are not toll-free numbers) or by email at dsi@dol.gov.

Submit written comments about, or requests for a copy of this ICR by mail or courier to the U.S. Department of Labor, Division of Strategic Investments, Room C-4518, Employment and Training Administration, U.S. Department of Labor, 200 Constitution Avenue NW, Washington, DC 20210; by email at dsi@dol.gov, or by Fax at 202-693-3890.

FOR FURTHER INFORMATION CONTACT: Evan Burke by telephone at 202-693-2963 (this is not a toll-free number) or by email at dsi@dol.gov.

Authority: 44 U.S.C. 3506(c)(2)(A).

SUPPLEMENTARY INFORMATION: DOL, as part of continuing efforts to reduce paperwork and respondent burden, conducts a pre-clearance consultation program to provide the general public and Federal agencies an opportunity to comment on proposed and/or continuing collections of information before submitting them to the OMB for final approval. This program helps to ensure that requested data can be provided in the desired format, reporting burden (time and financial resources) is minimized, collection instruments are clearly understood, and the impact of collection requirements can be properly assessed.

ETA requires grantees to submit Quarterly Narrative Reports with a narrative summary of progress on activities identified by the grantee in their project work plan. Grantees also submit a Quarterly Performance Report with standardized outcome measures that include data for program participants.

These reports help ETA gauge the effectiveness of the H-1B Ready To Work grants, respond to inquiries about the program's progress and success from Congress and other stakeholders, identify grantees that could serve as useful models, target technical assistance appropriately, and provide data for the national evaluation of the Ready To Work grants. ETA is seeking an extension for the collection of the Quarterly Narrative Report and the Quarterly Performance Report for the period 7/1/2019-6/30/2022. 29 U.S.C. 414(c), American Competitiveness and Workforce Improvement Act of 1998, 29 U.S.C. 3224a(7), Workforce Investment Act authorizes this information collection.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0507.

Submitted comments will also be a matter of public record for this ICR and posted on the internet, without redaction. The DOL encourages commenters not to include personally identifiable information, confidential business data, or other sensitive statements/information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: Extension without changes.

Title of Collection: H-1B Technical Skills Training and Jobs and Innovation Accelerator Challenge Grants.

OMB Control Number: 1205-0507.

Affected Public: Existing H-1B Ready To Work (RTW) grantees, and participants served through these programs.

Estimated Number of Respondents: 14,814.

Frequency: Varies by information collection activity.

Total Estimated Annual Responses: 14,958.

Estimated Average Time per Response: Varies by information collection activity.

Estimated Total Annual Burden Hours: 21,550 hours.

Total Estimated Annual Other Cost Burden: $0.

Molly E. Conway,
Acting Assistant Secretary for the Employment and Training Administration, Labor.

[FR Doc. 2018-28242 Filed 12-27-18; 8:45 am]

BILLING CODE 4510-FP-P